DEPARTMENT OF DEFENSE

Department of the Army; Corps of Engineers

Board on Coastal Engineering Research

AGENCY: Department of the Army, DoD.

ACTION: Notice of Advisory Committee meeting.

SUMMARY: The Department of the Army is publishing this notice to announce the following Federal advisory committee meeting of the Board on Coastal Engineering Research. This meeting is open to the public.

DATES: The Board on Coastal Engineering Research will meet from 8:00 a.m. to 5:00 p.m. on March 16, 2017 and reconvene from 8:00 a.m. to 12:00 p.m. on March 17, 2017.

ADDRESSES: All sessions will be held at the Ted's Scripps Conference Room, Robert Scripps Forum for Science, Society, and the Environment, Scripps Institution of Oceanography, 8610 Kennel Way, La Jolla, CA 92037. All sessions are open to the public. For more information about the Board, please visit https://chl.erdc.dren.mil/usace-cerb/.

FOR FURTHER INFORMATION CONTACT: COL Bryan S. Green Designated Federal Officer (DFO), U.S. Army Engineer Research and Development Center, Waterways Experiment Station, 3909 Halls Ferry Road, Vicksburg, MS 39180-6199, phone 601-634-2513, or Bryan.S.Green@usace.army.mil.

SUPPLEMENTARY INFORMATION: The meeting is being held under the provisions of the Federal Advisory Committee Act (FACA) of 1972 (5 U.S.C., Appendix, as amended), the Government in the Sunshine Act of 1976 (5 U.S.C. 552b, as amended), and 41 CFR 102-3.150. The Board on Coastal Engineering Research provides broad policy guidance and reviews plans for the conduct of research and the development of research projects in consonance with the needs of the coastal engineering field and the objectives of the U.S. Army Chief of Engineers.

Purpose of the Meeting: The meeting is an Executive Session to review past action items, status reports, research and development (R & D) strategic directions, and coastal engineering research in the United States.

Agenda: On Thursday morning, March 16, 2017, action items to be discussed will be: (1) Review Action Item List; (2) Talking Points and Vignettes; (3) Coastal System Operations & Management Tool Concept; and (4) Roadmap for Future Meeting Themes, Issues, and Locations. There will be presentation on University Collaborations and Digital Technology Modernization. A field trip to tour the Scripps Institution of Oceanography is scheduled that afternoon. Following the tour, the meeting reconvenes at the Ted Scripps Conference Room to discuss the Report on the Coastal Working Group Annual Meeting with focus on R & D needs, discuss and an Update on Nearshore Processes, Future Actions and Governance.

On Friday morning, March 17, 2017, the Board will reconvene to discuss comments from day one. Presentations on Heterogeneous Research Topics, State of Coastal CHL, Identify Strategic Coastal Research Priorities, and update and discussion on the June 2017 meeting in Honolulu, HI.

Meeting Accessibility: Pursuant to 5 U.S.C. 552b, as amended, and 41 CFR 102-3.140 through 102-3.165, and subject to the availability of space, the meeting is open to the public. Because seating capacity is limited, advance registration is required. For registration requirements please see below.

Oral participation by the public is scheduled for 10:45 a.m. on Friday, March 17, 2017. The Ted's Scripps Meeting Room is fully handicap accessible. For additional information about public access procedures, please contact COL Bryan S. Green, the Board's DFO, at the email address or telephone number listed in the FOR FURTHER INFORMATION CONTACT section.

Registration: It is encouraged for individuals who wish to attend the meeting of the Board to register with the DFO by email, the preferred method of contact, no later than February 27, 2017, using the electronic mail contact information found in the FOR FURTHER INFORMATION CONTACT section. The communication should include the registrant's full name, title, affiliation or employer, email address, and daytime phone number. If applicable, include written comments or statements with the registration email.

Written Comments and Statements: Pursuant to 41 CFR 102-3.015(j) and 102-3.140 and section 10(a)(3) of the FACA, the public or interested organizations may submit written comments or statements to the Board, in response to the stated agenda of the open meeting or in regard to the Board's mission in general. Written comments or statements should be submitted to COL Bryan S. Green, DFO, via electronic mail, the preferred mode of submission, at the address listed in the FOR FURTHER INFORMATION CONTACT section. Each page of the comment or statement must include the author's name, title or affiliation, address, and daytime phone number. The DFO will review all submitted written comments or statements and provide them to members of the Board for their consideration. Written comments or statements being submitted in response to the agenda set forth in this notice must be received by the DFO at least five business days prior to the meeting to be considered by the Board. The DFO will review all timely submitted written comments or statements with the Board Chairperson and ensure the comments are provided to all members of the Board before the meeting. Written comments or statements received after this date may not be provided to the Board until its next meeting.

Verbal Comments: Pursuant to 41 CFR 102-3.140d, the Board is not obligated to allow a member of the public to speak or otherwise address the Board during the meeting. Members of the public will be permitted to make verbal comments during the Board meeting only at the time and in the manner described below. If a member of the public is interested in making a verbal comment at the open meeting, that individual must submit a request, with a brief statement of the subject matter to be addressed by the comment, at least five business days in advance to the Board's DFO, via electronic mail, the preferred mode of submission, at the address listed in the FOR FURTHER INFORMATION CONTACT section. The DFO will log each request, in the order received, and in consultation with the Board Chair, determine whether the subject matter of each comment is relevant to the Board's mission and/or the topics to be addressed in this public meeting. A 30-minute period near the end of the meeting will be available for verbal public comments. Members of the public who have requested to make a verbal comment, and whose comments have been deemed relevant under the process described above, will be allotted no more than five minutes during this period, and will be invited to speak in the order in which their requests were received by the DFO.

Brenda S. Bowen,
Army Federal Register Liaison Officer.

[FR Doc. 2017-02570 Filed 2-7-17; 8:45 am]

BILLING CODE 3720-58-P